DEPARTMENT OF ENERGY

Federal Energy Regulatory Commission

[Docket No. RP03-356-000]

Southern Star Central Gas Pipeline, Inc.; Notice of Technical Conference

June 17, 2003.

The Commission in its order issued on May 28, 2003,¹ directed that a technical conference be held to address certain issues raised by Southern Star's tariff filing to shift from monthly to daily allocation of gas on its system.

¹ Southern Star Central Gas Pipeline, Inc., 103 FERC ¶ 61,243 (2003).

Take notice that a technical conference will be held on Thursday, June 26, 2003, at 11 a.m., in a room to be designated at the offices of the Federal Energy Regulatory Commission, 888 First Street, NE., Washington, DC 20426.

All interested parties and Staff are permitted to attend.

Linda Mitry,
Acting Secretary.

[FR Doc. 03-15845 Filed 6-23-03; 8:45 am]

BILLING CODE 6717-01-P